DEPARTMENT OF ENERGY

Federal Energy Regulatory Commission

Notice of Request To Use Alternative Procedures in Preparing a License Application

May 16, 2001.

Take notice that the following request to use alternative procedures to prepare a license application has been filed with the Commission.

a. Type of Application: Request to use alternative procedures to prepare a new license application.

b. Project No.: 11803.

c. Date filed: February 1, 2000.

d. Applicant: City of Broken Bow, Oklahoma.

e. Name of Project: Broken Bow Reregulating Dam Project.

f. Location: On the Mountain Fork River near the town of Broken Bow, McCurtain County, Oklahoma utilizing federal lands administered by the U.S. Army Corps of Engineers.

g. Filed Pursuant to: Federal Power Act, 16 U.S.C. 791(a)-825(r).

h. Applicant Contact: Stewart Noland, Crist Engineers, Inc., 1405 North Pierce Street, Suite 301, Little Rock, AR 72207, (501) 664-1552.

i. FERC Contact: Peter Leitzke at (202) 219-28903; e-mail peter.leitzke@ferc.fed.us.

j. Deadline for Comments: 30 days from the date of this notice.

All documents (original and eight copies) should be filed with: David P. Boergers, Secretary, Federal Energy Regulatory Commission, 888 First Street, NE., Washington, DC 20426. Comments, protests and interventions may be filed electronically via the internet in lieu of paper. See 18 CFR 385.2001(a)(1)(iii) and the instructions on the Commission's web site at http://www.ferc.fed.us/efi/doorbell.htm.

All comment filings must bear the heading “Comments on the Alternative Procedures,” and include the project name and number (Broken Bow Reregulating Dam project No. 11803).

k. The proposed project would utilize the existing U.S. Army corps of Engineers' Broken Bow Reregulating Dam and would consist of: (1) A new 50-foot-long, 50-foot-wide, 20-foot-high powerhouse containing one or two generating units having a total installed capacity of 5,000 kilowatts; (2) a short transmission line; and (3) appurtenant facilities.

l. The City of Broken Bow has demonstrated that it has made an effort to contact all federal and state resources agencies, non-governmental organizations (NGO), and others affected by the project. The City of Broken Bow has also demonstrated that a consensus exists that the use of alternative procedures is appropriate in this case. The City of Broken Bow has also demonstrated that a consensus exists that the use of alternative procedures is appropriate in this case. The City of Broken Bow has submitted a communications protocol that is supported by the stakeholders.

The purpose of this notice is to invite any additional comments on the City of Broken Bow's request to use the alternative procedures, pursuant to Section 4.34(i) of the Commission's regulations. Additional notices seeking comments on the specific project proposal, interventions and protests, and recommended terms and conditions will be issued at a later date. the City of Broken Bow will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

The City of Broken Bow has contacted federal and state resources agencies, NGOs, elected officials, environmental groups, business and economic development organizations, and members of the public regarding the Broken Bow Reregulating Dam Project. The City of Broken Bow intends to file 6-month progress reports during the alternative procedures process that leads to the filing of a license application.

David P. Boergers,
Secretary.

[FR Doc. 01-12682 Filed 5-18-01; 8:45 am]

BILLING CODE 6717-01-M